DEPARTMENT OF COMMERCE

National Oceanic and Atmospheric Administration

Proposed Information Collection; Comment Request; Alaska Quota Cost Recovery Programs

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 1, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Kurt Iverson (907) 586-7228 or kurt.iverson@noaa.gov.

SUPPLEMENTARY INFORMATION:

I. Abstract

This request is an extension of a currently approved information collection.

The Magnuson-Stevens Fishery and Conservation Act both authorizes and requires the collection of cost recovery fees for Limited Access Privilege (LAP) programs and Western Alaska Community Development Quota (CDQ) programs. The cost recovery fees may not exceed three percent of the ex-vessel value, and must recover costs associated with the management, data collection, and enforcement of these programs that are directly incurred by government agencies tasked with overseeing these fisheries.

In addition, NMFS collects observer coverage fees to support the funding and deployment of observers on vessels and in plants in the partial observer coverage category. The observer coverage fee must be paid by permit holders in the partial observer coverage category, i.e., small catcher/processors, catcher vessels, shoreside processors, and stationary floating processors named on a Federal Fisheries Permit, or a person named on a Registered Buyer permit.

Processors that receive and purchase landings of IFQ halibut or sablefish, rockfish, groundfish, and crab subject to observer and/or cost recovery fees must submit an Ex-vessel Value and Volume report under 50 CFR 679.5 or 50 CFR 680.5 that provides information on the pounds purchased and value paid. NMFS uses this information to establish the total ex-vessel value of the fishery, to calculate standard prices, and to establish annual fee percentages in each fishery.

In 2016, due to an associated rule, revisions to the payment collection methods were approved under OMB control number 0648-0727. The extension of the current collection, OMB control number 0648-0711, will incorporate these 2016 revisions, and 0648-0727 will be discontinued.

II. Method of Collection

Payment must be submitted online through eFISH at https://alaskafisheries.noaa.gov/webapps/efish/login for the following:

• Observer coverage fee; and

• cost recovery fees for the Western Alaska Community Development Quota Groundfish and Halibut, American Fisheries Act Bering Sea Pollock, Aleutian Islands Pollock, Amendment 80, and Rockfish Programs.

Payment for the Individual Fishing Quota (IFQ) Program cost recovery fee is submitted online through eFISH, or by mail or courier if paying with a check. Payment for the Crab Rationalization (CR) Program cost recovery fee is submitted online through eFISH, or by mail or courier if paying with a check. After December 2019, NMFS will no longer accept paper checks for cost recovery program fees. All payments will have to be made online.

The IFQ Registered Buyer Ex-Vessel Volume and Value Report is submitted online through eFISH, or by mail or fax. The Rockfish Ex-Vessel, CR Registered Crab Receiver Ex-Vessel, Pacific Cod Ex-Vessel, and First Wholesale Volume and Value Reports must be submitted online through eFISH. Appeals may be submitted by mail or fax.

III. Data

OMB Control Number: 0648-0711.

Form Number(s): None.

Type of Review: Regular submission (extension of a currently approved collection).

Affected Public: Individuals or households; Business or other for-profit organizations.

Estimated Number of Respondents: 2,182.

Estimated Time per Response: 1 minute for cost recovery fee, observer coverage fee, and Value and Volume Report; 4 hours for Appeals for any person who receives an IAD for incomplete payment of a fee liability.

Estimated Total Annual Burden Hours: 43 hours.

Estimated Total Annual Cost to Public: $416 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 26, 2018.
Sarah Brabson,
NOAA PRA Clearance Officer.

[FR Doc. 2018-16502 Filed 8-1-18; 8:45 am]

BILLING CODE 3510-22-P